DEPARTMENT OF AGRICULTURE

Forest Service

36 CFR Part 294

Special Areas; Roadless Area Conservation; Applicability to the National Forests in Idaho; Proposed Correction

AGENCY: Forest Service, USDA.

ACTION: Proposed administrative correction; request for comment.

SUMMARY: The Forest Service, U.S. Department of Agriculture (USDA), is proposing to make administrative corrections affecting Big Creek Fringe, French Creek, Placer Creek, Secesh, and Smith Creek Idaho Roadless Areas on the Payette National Forest. These corrections will remedy two errors regarding regulatory classification and mapping that concern Forest Plan Special Areas (Big Creek and French Creek). Notice is given pursuant to 36 CFR 294.27(a), that the Chief proposes to issue an administrative correction after a 30-day public notice and opportunity to comment.

DATES: Comments must be received, in writing, on or before October 8, 2010.

ADDRESSES: Written comments concerning this proposed administrative correction should be addressed to Idaho Roadless Area Payette Correction, Northern Region USFS, Federal Building, 200 East Broadway, P.O. Box 7669, Missoula, MT 59807-7669. Comments may also be sent via e-mail to comments-northern-regional-office@fs.fed.us, or via facsimile to 406-329-3314.

All comments, including names and addresses when provided, are placed in the record and are available for public inspection and copying. The public may inspect comments received at http://roadless.fs.fed.us.

FOR FURTHER INFORMATION CONTACT: Idaho Roadless Coordinator Joan Dickerson at 406-329-3314. Additional information concerning this administrative correction, including the proposed corrected maps, may be obtained on the Internet at http://roadless.fs.fed.us. Individuals who use telecommunication devices for the deaf (TDD) may call the Federal Information Relay Service (FIRS) at 1-800-877-8339 between 8 a.m. and 8 p.m., Eastern Standard Time, Monday through Friday.

SUPPLEMENTARY INFORMATION: The following correction is proposed to fix technical errors in the Idaho Roadless Area Rule published in the Federal Register October 16, 2008 (73 FR 61456) and associated maps. These corrections were discussed with the State of Idaho Implementation Committee on September 11, 2009, and no concerns were expressed by the Committee. These corrections would facilitate the development of the Big Creek Fuels Reduction Project on the Krassel Ranger District, Payette National Forest. The project is being developed to reduce fuels in the wildland urban interface around the community of Big Creek. The corrections are needed so the appropriate treatment may be designed. The public should be aware that the indexing of management themes for individual Idaho Roadless Areas set forth in § 294.29 is an approximation (to the nearest hundred acres).

Corrections Regarding Big Creek

The Idaho Roadless Rule and associated maps mistakenly identify a Forest Plan Special Area (Wild and Scenic River) along Big Creek. During the Idaho rulemaking, Forest Plan Special Areas were identified where the management is governed by specific Agency directives and forest plan direction. The 2003 Southwest Idaho Ecogroup Land and Resource Management Plan Final Environmental Impact Statement (FEIS) included an eligibility study for Big Creek. However, the Agency's Record of Decision did not find Big Creek eligible for Wild and Scenic River designation. As the Payette Forest Plan did not establish a special management area, the Idaho rulemaking and associated maps should be conformed to remove this erroneous classification. These proposed corrections occur in T20N, R8E, sections 13-14 and 22-24; T20N, R9E, sections 2-3, 10, 15, and 17-18; T21N, R9E, sections 13, 23-24, 26, and 34-36, Boise Meridian.

Summary of Proposed Changes

The rule and associated maps will be corrected as follows:

• Big Creek Fringe Idaho Roadless Area: Change 365 acres of Forest Plan Special Area to Backcountry/Restoration and deletes 3 acres of private ownership. The FPSA classification will be removed in the rule.

• Placer Creek Idaho Roadless Area: Change 98 acres of Forest Plan Special Area to Backcountry/Restoration; and 14 acres of Forest Plan Special Area to Primitive. The FPSA classification will be removed in the rule.

• Secesh Idaho Roadless Area: Change 1,086 acres of Forest Plan Special Area to Backcountry/Restoration.

• Smith Creek Roadless Area: Change 14 acres of Forest Plan Special Area to Primitive.

Correction Regarding French Creek

The Idaho Roadless Rule erroneously did not identify an existing Forest Plan Special area for the Wild and Scenic River corridor along Lake Creek in the French Creek Idaho Roadless Area. The 2003 Southwest Idaho Ecogroup Land and Resource Management Plan Final Environmental Impact Statement included a suitability study for the Secesh River, including Lake Creek. The Record of Decision found the Secesh River, including Lake Creek, eligible for Wild and Scenic River designation and the Payette National Forest Land and Resource Management Plans established a special management area. Therefore, the proposal is to correct the associated maps for this area. The correction involves moving 1,000 acres of Forest Plan Special Area to Backcountry/Restoration to and occurs in T22N, R4E, sections 10, 15, 22, 26-27, and 35, Boise Meridian.

Dated: August 30, 2010.
Thomas L. Tidwell,
Chief, Forest Service.

[FR Doc. 2010-22151 Filed 9-7-10; 8:45 am]

BILLING CODE 3410-11-P